DEPARTMENT OF TRANSPORTATION

Federal Aviation Administration

14 CFR Parts 108, 109, 111, 129, and 191

[Docket No. FAA-1999-6673; Notice No. ]

RIN 2120-AG84

Certification of Screening Companies

AGENCY: Federal Aviation Administration (FAA), DOT.

ACTION: Notice of public meeting.

SUMMARY: The FAA announces a public meeting to be held on the subject of “Certification of Screening Companies; Notice of Proposed Rulemaking” (65 FR 560, January 5, 2000). In that notice, the FAA proposes to require that all companies that perform aviation security screening be certificated by the FAA and meet enhanced requirements. The proposal is in response to a recommendation by the White House Commission on Aviation Safety and Security and to a Congressional mandate in the Federal Aviation Reauthorization Act of 1996. The proposal is intended to improve the screening of passengers, accessible property, checked baggage, and cargo; and to provide standards for consistent high performance and increased screening company accountability.

DATES: The public meeting will be on March 10, 2000, in Washington, DC. The meeting will begin at 9 a.m. Persons unable to attend the meeting are invited to provide written comments, which must be received on or before April 4, 2000.

ADDRESSES: The public meeting will be held at the Federal Aviation Administration, 800 Independence Avenue, SW., Washington, DC 20591 in the 3rd floor auditorium. Persons unable to attend the meeting may mail their comments in duplicate to: U.S. Department of Transportation Dockets, Docket No. FAA-1999-6673, 400 Seventh Street, SW., Room Plaza 401, Washington, DC 20590. Comments also may be sent electronically to the Dockets Management System (DMS) at the following Internet address: http://dms.dot.gov/ at anytime. Commenters who wish to file comments electronically, should follow the instructions on the DMS web site. Comments may be filed and/or examined at the U.S. Department of Transportation Dockets, Room Plaza 401 between 10 a.m. and 5 p.m. weekdays except Federal holidays.

FOR FURTHER INFORMATION CONTACT: Requests to present a statement at the meeting or questions regarding the logistics of the meeting should be directed to Judy Courbois, Federal Aviation Administration, Office of Rulemaking, ARM-102, 800 Independence Avenue, SW., Washington, DC 20591; telephone (202) 267-9783; fax (202) 267-5075. Questions concerning the subject matter of the meeting should be directed to Scott Cummings, Office of Civil Aviation Security Policy and Planning (ACP-100), Federal Aviation Administration, 800 Independence Avenue, SW., Washington, DC 20591; telephone (202) 267-9468; fax (202) 267-5359.

SUPPLEMENTARY INFORMATION:

Background

The FAA issued “Certification of Screening Companies, Notice of Proposed Rulemaking,” on December 15, 1999, proposing procedures for certification of screening companies; and proposing other requirements to improve screening, such as performance measurements and new training and FAA testing requirements for screeners. The FAA is announcing this public meeting to give the public an additional opportunity to comment on the proposed rule.

Participation at the Meeting

The FAA should receive requests from persons who wish to present oral statements at the meeting no later than February 24, 2000. Such requests should be submitted to Judy Courbois, as listed above in the section titled FOR FURTHER INFORMATION CONTACT, and should include a written summary of oral remarks to be presented and an estimate of time needed for the presentation. The FAA will prepare an agenda of speakers, which will be available at the meeting. The names of those individuals whose requests to present oral statements are received after the date specified above may not appear on the written agenda. To accommodate as many speakers as possible, the amount of time allocated to each speaker may be less than the amount of time requested. Persons requiring audiovisual equipment should notify the FAA when requesting to be placed on the agenda.

Public Meeting Procedures

The FAA will use the following procedures to facilitate the meeting:

(1) There will be no admission fee or other charge to attend or to participate in the meeting. The meeting will be open to all persons who are scheduled to present statements or who register between 8:30 a.m. and 9 a.m. on the day of the meeting. While the FAA will make every effort to accommodate all persons wishing to participate, admission will be subject to availability of space in the meeting room. The meeting may adjourn early if scheduled speakers complete their statements in less time than is scheduled for the meeting.

(2) An individual, whether speaking in a personal or a representative capacity on behalf of an organization, may be limited to a 10-minute statement. If possible, we will notify the speaker if additional time is available.

(3) The FAA will try to accommodate all speakers. If the available time does not permit this, speakers generally will be scheduled on a first-come-first-served basis. However, the FAA reserves the right to exclude some speakers if necessary to present a balance of viewpoints and issues.

(4) Sign and oral interpretation can be made available at the meeting, as well as an assistive listening device, if requested 10 calendar days before the meeting.

(5) Representatives of the FAA will preside over the meeting. A panel of FAA personnel involved in this proposal will be present.

(6) The meeting will be recorded by a court reporter. A transcript of the meeting and any material accepted by the FAA representatives during the meeting will be included in the public docket. Any person who is interested in purchasing a copy of the transcript should contact the court reporter directly. Additional transcript purchase information will be available at the meeting.

(7) The FAA will review and consider all material presented by participants at the meeting. Position papers or material presenting views or arguments related to the certification of screening companies may be accepted at the discretion of the presiding officer and subsequently placed in the public docket. The FAA requests that persons participating in the meeting provide six copies of all materials to be presented for distribution to the FAA representatives; other copies may be provided to the audience at the discretion of the participant.

(8) Statements made by FAA representatives are intended to facilitate discussion of the issues or to clarify issues. Any statement made during the meeting by an FAA representative is not intended to be, and should not be construed as, a position of the FAA.

(9) The meeting is designed to solicit public views and gather additional information on the certification of screening companies. Therefore, the meeting will be conducted in an informal and non-adversarial manner. No individual will be subject to cross-examination by any other participant; however, FAA representatives may ask questions to clarify a statement and to ensure a complete and accurate record.

Issued in Washington, DC on January 27, 2000.
Anthony F. Fazio,
Director, Office of Rulemaking.

[FR Doc. 00-2246 Filed 2-1-00; 8:45 am]

BILLING CODE 4910-13-P